DEPARTMENT OF EDUCATION

Office of Postsecondary Education; Overview Information; Transition Programs for Students with Intellectual Disabilities Into Higher Education (TPSID)—Model Comprehensive Transition and Postsecondary Programs for Students With Intellectual Disabilities; Notice Inviting Applications for New Awards for Fiscal Year (FY) 2010

Catalog of Federal Domestic Assistance (CFDA) Number: 84.407A.

Dates:

Applications Available: June 30, 2010.

Deadline for Transmittal of Applications: July 30, 2010.

Full Text of Announcement

I. Funding Opportunity Description

Purpose of Program: The purpose of this program is to support model demonstration programs that promote the successful transition of students with intellectual disabilities into higher education and to enable institutions of higher education (IHEs) (or consortia of institutions of higher education), to create or expand high quality inclusive model comprehensive transition and postsecondary programs for students with intellectual disabilities.

Priorities: This notice contains one absolute priority, three competitive preference priorities, and one invitational priority for the FY 2010 grant competition and any subsequent year in which we make awards from the list of unfunded applicants from this competition. We are establishing the absolute priority in accordance with section 437(d)(1) of the General Education Provisions Act (GEPA), 20 U.S.C. 1232(d)(1).

Absolute Priority: This priority is an absolute priority. Under 34 CFR 75.105(c)(3) we consider only applications that meet this priority.

This priority is:

A grant recipient must use grant funds to establish a model comprehensive transition and postsecondary program for students with intellectual disabilities that—

(1) Serves students with intellectual disabilities;

(2) Provides individual supports and services for the academic and social inclusion of students with intellectual disabilities in academic courses, extracurricular activities, and other aspects of the IHE's regular postsecondary program;

(3) Provides a focus on academic enrichment, socialization, independent living skills, including self-advocacy, and integrated work experiences and career skills that lead to gainful employment;

(4) Integrates person-centered planning in the development of the course of study for each student with an intellectual disability participating in the model program;

(5) Participates with the coordinating center established under section 777(b) of the HEA, in the evaluation of the components of the model program and budgets $4,000 annually for evaluation expenses incurred by the coordinating center including data collection, storage, analyses, and reporting;

(6) Engages in scheduled meetings or conference calls sponsored by the coordinating center, contributes $500 annually to the coordinating center in consultation with the Federal project officer to support conference expenses, and allocates five-percent of the time of one project personnel to support meeting and conference planning each project year;

(7) Partners with one or more local educational agencies to support students with intellectual disabilities participating in the model program who are still eligible for special education and related services under the Individuals with Disabilities Education Act (IDEA);

(8) Implements a financial and program plan for the sustainability of the model after the end of the grant period; and

(9) Creates and offers a meaningful credential for students with intellectual disabilities upon the completion of the model program.

Competitive Preference Priorities: In accordance with 34 CFR 75.105(b)(2)(iv), these priorities are from section 767(c)(3) of the HEA. For FY 2010, these priorities are competitive preference priorities. Under 34 CFR 75.105(c)(2)(i), we award an additional nine points to an applicant (three points for each of the three priorities), that meets these priorities. An applicant can choose to respond to one, two, or all three of these priorities and can receive points based on their response to each separate priority.

These priorities are:

Competitive Priority 1:

Applicants that propose to form a sustained and meaningful partnership with any relevant agency serving students with intellectual disabilities, such as a vocational rehabilitation agency.

Competitive Priority 2:

Applicants that demonstrate that their IHE provides institutionally owned or operated housing for students attending the institution that integrates students with intellectual disabilities into the housing offered to all students.

Competitive Priority 3:

Applicants that propose to involve undergraduate or graduate students attending the IHE who are studying special education, general education, vocational rehabilitation, assistive technology, or related fields in the model program.

Invitational Priority: For FY 2010 this priority is an invitational priority. Under 34 CFR 75.105(c)(1) we do not give an application that meets this invitational priority a competitive or absolute preference over other applications.

This priority is:

Applicants that demonstrate that the institution will use TPSID funds to extend or enhance an existing program, rather than to supplant other non-Federal resources that are allocated to the program. Applicants responding to this priority should describe any existing programs at their institutions, including the number and characteristics of the students served, the staffing and budget for the program, how well students with intellectual disabilities are integrated with students without disabilities in regard to academic courses, extracurricular activities and other aspects of the IHE's regular postsecondary program, and describe how the TPSID grant will build upon current efforts.

Applicable Statutory Definitions:

Comprehensive transition and postsecondary program for students with intellectual disabilities (section 760(1) of the HEA).

The term “comprehensive transition and postsecondary program for students with intellectual disabilities” means a degree, certificate, or nondegree program that meets each of the following:

(A) Is offered by an institution of higher education.

(B) Is designed to support students with intellectual disabilities who are seeking to continue academic, career and technical, and independent living instruction at an institution of higher education in order to prepare for gainful employment.

(C) Includes an advising and curriculum structure.

(D) Requires students with intellectual disabilities to participate on not less than a half-time basis as determined by the institution, with such participation focusing on academic components, and occurring through one or more of the following activities:

(i) Regular enrollment in credit-bearing courses with nondisabled students offered by the institution.

(ii) Auditing or participating in courses with nondisabled students offered by the institution for which the student does not receive regular academic credit.

(iii) Enrollment in noncredit-bearing, nondegree courses with nondisabled students.

(iv) Participation in internships or work-based training in settings with nondisabled individuals.

(E) Requires students with intellectual disabilities to be socially and academically integrated with non-disabled students to the maximum extent possible.

Student with an intellectual disability (section 760(2) of the HEA). The term “student with an intellectual disability” means a student—

(A) With mental retardation or a cognitive impairment, characterized by significant limitations in—

(i) Intellectual and cognitive functioning; and

(ii) Adaptive behavior as expressed in conceptual, social, and practical adaptive skills; and

(B) Who is currently, or was formerly, eligible for a free appropriate public education under IDEA.

Waiver of Proposed Rulemaking: Under the Administrative Procedure Act (5 U.S.C. 553) the Department generally offers interested parties the opportunity to comment on proposed priorities. Section 437(d)(1) of GEPA, however, allows the Secretary to exempt from rulemaking requirements regulations governing the first grant competition under a new or substantially revised program authority. This is the first grant competition for this program under section 767 of the HEA, (20 U.S.C. 1140G) and therefore qualifies for this exemption. To ensure timely grant awards, the Secretary has decided to forego public comment on the absolute priority under section 437(d)(1) of GEPA. This priority will apply to the FY 2010 grant competition and any subsequent year in which we make awards from the list of unfunded applicants from this competition.

Program Authority: 20 U.S.C. 1140G.

Applicable Regulations: The Education Department General Administrative Regulations (EDGAR) in 34 CFR parts 74, 75, 77, 79, 82, 84, 85, 86, 97, 98, and 99.

Note: The regulations in 34 CFR part 79 apply to all applicants except federally recognized Indian tribes.

II. Award Information

Type of Award: Discretionary grants.

Estimated Available Funds: $10,563,300.

Contingent upon the availability of funds and the quality of applications, we may make additional awards in FY 2011 from the list of unfunded applicants from this competition.

Estimated Range of Awards: $100,000-$500,000.

Estimated Average Size of Awards: $423,000.

Maximum Award: We will reject any application that proposes a budget exceeding $500,000 for a single budget period of 12 months. The Assistant Secretary for Postsecondary Education may change the maximum amount through a notice published in the Federal Register.

Estimated Number of Awards: 25.

Note: The Department is not bound by any estimates in this notice.

Project Period: 60 months.

III. Eligibility Information

1. Eligible Applicants: IHEs as defined under section 101(a) of the HEA or consortia of IHEs are eligible to apply for funding.

2. Cost Sharing or Matching: The grantee must provide, from non-Federal funds, a matching contribution equal to at least 25 percent of the cost of the project. See section 767(e) of the HEA.

IV. Application and Submission Information

1. Address to Request Application Package: Shedita Alston, U.S. Department of Education, 1990 K Street, NW., room 6131, Washington, DC 20006-8524. Telephone (202) 502-7808 or by e-mail: shedita.alston@ed.gov.

If you use a telecommunications device for the deaf (TDD), call the Federal Relay Service (FRS), toll free, at 1-800-877-8339.

Individuals with disabilities can obtain a copy of the application package in an accessible format (e.g., braille, large print, audiotape, or computer diskette) by contacting the program contact person listed in this section.

2. Content and Form of Application Submission: Requirements concerning the content of an application, together with the forms you must submit, are in the application package for this program.

Page Limit: The application narrative (Part III of the application) is where you, the applicant, address the selection criteria that reviewers use to evaluate your application. You must limit the application narrative (Part III) to no more than 40 pages using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger, or no smaller than 10 pitch (characters per inch).

• Use one of the following fonts: Times New Roman, Courier, Courier New, or Arial only. Applications submitted in any other font (including Times Roman and Arial Narrow) will not be accepted.

• Appendices are limited to the following: Curriculum Vitae, letters of support, partnership agreements, memoranda of agreement, a bibliography, and one additional optional appendix relevant to the support of the proposal, not to exceed five pages.

The page limit does not apply to Part I, the Application for Federal Assistance (SF 424); the Supplemental Information Form required by the Department of Education; Part IV, the assurances and certifications; or the one-page abstract; or the appendices. The page limit also does not apply to the table of contents, if you include one. However, you must include all of the application narrative in Part III.

We will reject your application if you exceed the page limit.

3. Submission Dates and Times:

Applications Available: June 30, 2010.

Deadline for Transmittal of Applications: July 30, 2010.

Applications for grants under this program must be submitted electronically using the Electronic Grant Application System (e-Application) accessible through the Department's e-Grants site. For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This program is subject to Executive Order 12372 and the regulations in 34 CFR part 79. Information about Intergovernmental Review of Federal Programs under Executive Order 12372 is in the application package for this program.

5. Funding Restrictions: We specify unallowable costs in 34 CFR part 75. We reference additional regulations outlining funding restrictions in the Applicable Regulations section of this notice.

6. Data Universal Numbering System Number, Taxpayer Identification Number, and Central Contractor Registry: To do business with the Department of Education, (1) you must have a Data Universal Numbering System (DUNS) number and a Taxpayer Identification Number (TIN); (2) you must register both of those numbers with the Central Contractor Registry (CCR), the Government's primary registrant database; and (3) you must provide those same numbers on your application.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined in the Grants.gov 3-Step Registration Guide (see http://www.grants.gov/section910/Grants.govRegistrationBrochure.pdf).

7. Other Submission Requirements: Applications for grants under this program must be submitted electronically unless you qualify for an exception to this requirement in accordance with the instructions in this section.

a. Electronic Submission of Applications.

Applications for grants under the TPSID program—CFDA number 84.407A must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30:00 p.m., Washington, DC time, on the application deadline date. E-Application will not accept an application for this program after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2)(a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see section VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement, and may submit your application in paper format, if you are unable to submit an application through e-Application because—

• You do not have access to the Internet; or

• You do not have the capacity to upload large documents to e-Application; and

• No later than two weeks before the application deadline date (14 calendar days or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Shedita Alston, U.S. Department of Education, 1990 K Street, NW., room 6131, Washington, DC 20006-8524. FAX: (202) 502-7675.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address:

U.S. Department of Education, Application Control Center, Attention: (CFDA Number 84.407A), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address:

U.S. Department of Education, Application Control Center, Attention: (CFDA Number 84.407A), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for this program are from 34 CFR 75.210 and are listed in the application package.

2. Review and Selection Process: Based on section 767(c)(1) and (2) of the HEA, additional factors we consider in selecting an application for an award are as follows: ensuring an equitable geographic distribution of grants, and providing grant funds to projects that will serve areas that are underserved by programs of this type.

VI. Award Administration Information

1. Award Notices: If your application is successful, we notify your U.S. Representative and U.S. Senators and send you a Grant Award Notification (GAN). We may notify you informally, also.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The Government Performance and Results Act (GPRA) of 1993 directs Federal departments and agencies to improve the effectiveness of their programs by engaging in strategic planning, setting outcome-related goals for programs, and measuring program results against those goals. The goal of the TPSID program is to promote the successful transition of students with intellectual disabilities into higher education and to enable institutions of higher education (or consortia of institutions of higher education), to create or expand high quality, inclusive model comprehensive transition and postsecondary programs for students with intellectual disabilities. To assess the success of the grantees in meeting this goal, grantees will be required to submit annual performance reports to the Secretary, including documentation of: Resource inputs, including sources of student financial assistance and contributions from vocational rehabilitation and other service agencies; student characteristics; program staffing; and student academic, social, and employment outcomes. In accordance with section 767(d)(5) of the HEA, grantees will be required to participate in evaluation activities conducted by the coordinating center established by section 777(b) of the HEA. As part of these reports and evaluation activities, grantees will be expected to work closely with the coordinating center to develop performance measures most closely aligned with activities that promote the successful transition of students with disabilities into higher education. Grantees will be asked to provide information to the coordinating center such as: (1) A description of the population of students targeted to receive assistance under their grant; (2) evidence of academic and social inclusion of students with intellectual disabilities in academic courses, extracurricular activities, and other aspects of the IHE's regular postsecondary program; (3) a description of how the model program addresses individualized student needs and improvement through person-centered planning, academic enrichment, socialization, independent living skills, and integrated work experiences and career skills; (4) a description of how the program leads to gainful employment and data systems used to track student outcomes; (5) a description of how the model program's partnership with one or more LEAs supports students with intellectual disabilities participating in the model program who are still eligible for funds under the IDEA; (6) plans for program sustainability beyond the grant period; (7) a detailed description of the meaningful credential offered to students with intellectual disabilities; (8) data regarding the change in enrollment of students with intellectual disabilities at the IHE; (9) data regarding persistence and completion of students with intellectual disabilities; (10) a detailed description of measureable goals for the individual project, planned methods of achieving those goals, and progress towards meeting the goals; and (11) if applicable, a description of how the grantee continues to address the competitive preference priorities described in this notice related to sustained and meaningful partnerships with relevant agencies, the participation of students with intellectual disabilities in institutionally owned or operated housing, and the involvement of students attending the IHE who are studying special education, general education, vocational rehabilitation, assistive technology, or related fields in the model program.

VII. Agency Contact

For Further Information Contact: Shedita Alston, U.S. Department of Education, Transition Programs for Students with Intellectual Disabilities into Higher Education Program, 1990 K Street, NW., room 6131, Washington, DC 20006-8524. Telephone: (202) 502-7808, or by e-mail: shedita.alston@ed.gov.

If you use a TDD, call the FRS, toll free, at 1-800-877-8339.

VIII. Other Information

Accessible Format: Individuals with disabilities can obtain this document and a copy of the application package in an accessible format (e.g., braille, large print, audiotape, or computer diskette) on request to the program contact person listed under FOR FURTHER INFORMATION CONTACT in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education to perform the functions of the Assistant Secretary for Postsecondary Education.

Dated: June 25, 2010.
Daniel T. Madzelan,
Director, Forecasting and Policy Analysis.

[FR Doc. 2010-15927 Filed 6-29-10; 8:45 am]

BILLING CODE 4000-01-P